DEPARTMENT OF ENERGY

Federal Energy Regulatory Commission

Combined Notice of Filings # 1

October 3, 2007.

Take notice that the Commission received the following exempt wholesale generator filings:

Docket Numbers: EG07-88-000.

Applicants: Snyder Wind Farm, LLC.

Description: Notice of Self-Certification of Exempt Wholesale Generator Status for Snyder Wind Farm, LLC.

Filed Date: 09/27/2007.

Accession Number: 20070927-5021.

Comment Date: 5 p.m. Eastern Time on Thursday, October 18, 2007.

Docket Numbers: EG07-89-000.

Applicants: FPL Energy Point Beach, LLC.

Description: Notice of Self-Certification of Exempt Wholesale Generator Status of FPL Energy Point Beach, LLC.

Filed Date: 09/28/2007.

Accession Number: 20070928-5006.

Comment Date: 5 p.m. Eastern Time on Friday, October 19, 2007.

Take notice that the Commission received the following electric rate filings:

Docket Numbers: ER94-1188-043; ER98-1279-014; ER98-4540-012; ER99-1623-012.

Applicants: LG&E Energy Marketing-Hadson Energy; LG&E Energy Marketing, Inc.; Western Kentucky Energy Corp; Western Kentucky Energy Corporation; Louisville Gas & Electric Company;

Description: LG&E Energy Marketing, Inc., et al. submits revised sheets to Tariff Volume 2 and 3 as Exhibits 1 and 2.

Filed Date: 09/24/2007.

Accession Number: 20070928-0028.

Comment Date: 5 p.m. Eastern Time on Monday, October 15, 2007.

Docket Numbers: ER05-1089-004; ER06-1027-001; EL05-136-002.

Applicants: Wisconsin Public Service Corp.

Description: Wisconsin Public Service Corporation submits two Stipulations clarifying the settlements of the two agreements differed item provisions pursuant to the Commission's 8/21/07 order.

Filed Date: 09/20/2007.

Accession Number: 20070928-0118.

Comment Date: 5 p.m. Eastern Time on Thursday, October 11, 2007.

Docket Numbers: ER06-613-004.

Applicants: ISO New England, Inc.; New England Power Pool.

Description: ISO New England Inc submits report on the status of the implementation of certain reserve market changes that were included as part of Phase II of the Ancillary Services Market project.

Filed Date: 10/01/2007.

Accession Number: 20071002-0090.

Comment Date: 5 p.m. Eastern Time on Monday, October 22, 2007.

Docket Numbers: ER06-615-013.

Applicants: California Independent System Operator Corporation.

Description: California Independent System Operator Corp submits proposed revisions to its MRTU Tariff.

Filed Date: 09/28/2007.

Accession Number: 20071003-0020.

Comment Date: 5 p.m. Eastern Time on Friday, October 19, 2007.

Docket Numbers: ER06-1131-002.

Applicants: LSP-Kendall Energy, LLC.

Description: Electric Refund Compliance report of LSP-Kendall Energy, LLC.

Filed Date: 09/27/2007.

Accession Number: 20070927-5052.

Comment Date: 5 p.m. Eastern Time on Thursday, October 18, 2007.

Docket Numbers: ER06-1346-002.

Applicants: White Creek Wind I, LLC.

Description: White Creek Wind I, LLC notifies FERC that sales of test energy from the facility commenced on 8/1/07 & submits First Revised Sheet 1, et al. to FERC Electric Tariff, Original Volume 1.

Filed Date: 10/01/2007.

Accession Number: 20071002-0089.

Comment Date: 5 p.m. Eastern Time on Monday, October 22, 2007.

Docket Numbers: ER07-1247-001.

Applicants: FC Energy Services Company, LLC.

Description: FC Energy Services Co., LLC submits an amendment to its proposed market based rate tariff, FERC Electric Tariff 1.

Filed Date: 09/27/2007.

Accession Number: 20071001-0086.

Comment Date: 5 p.m. Eastern Time on Thursday, October 18, 2007.

Docket Numbers: ER07-1250-001.

Applicants: PowerGrid Systems, Inc.

Description: PowerGrid Systems, Inc. submits a letter of clarification in response to FERC's request for revisions and original Sheet 2 to FERC Electric Tariff, Original Volume 1 to reflect the requirements of Order 697.

Filed Date: 09/28/2007.

Accession Number: 20071003-0022.

Comment Date: 5 p.m. Eastern Time on Friday, October 19, 2007.

Docket Numbers: ER07-1291-001.

Applicants: PacifiCorp.

Description: PacifiCorp submits revisions to its Open Access Transmission Tariff & requests that the Open Access Transmission Tariff sheets be accepted for filing, effective 10/2/07.

Filed Date: 10/01/2007.

Accession Number: 20071003-0028.

Comment Date: 5 p.m. Eastern Time on Monday, October 22, 2007.

Docket Numbers: ER07-1374-001.

Applicants: South Carolina Electric & Gas Company.

Description: South Carolina Electric & Gas Co submits an executed Industrial Tap Agreement with the City of Orangeburg, South Carolina.

Filed Date: 09/27/2007.

Accession Number: 20070928-0081.

Comment Date: 5 p.m. Eastern Time on Thursday, October 18, 2007.

Docket Numbers: ER07-1406-000.

Applicants: Long Beach Peakers, LLC.

Description: Long Beach Peakers, LLC's petition for acceptance of their FERC Electric Tariff, Original Volume 1.

Filed Date: 09/27/2007.

Accession Number: 20071001-0087.

Comment Date: 5 p.m. Eastern Time on Thursday, October 18, 2007.

Docket Numbers: ER07-1407-000.

Applicants: Avista Corporation.

Description: Avista Corp submits its Third Revised Sheet 8 and 9 to their First Revised Rate Schedule 184.

Filed Date: 09/28/2007.

Accession Number: 20071001-0089.

Comment Date: 5 p.m. Eastern Time on Friday, October 19, 2007.

Docket Numbers: ER07-1408-000.

Applicants: PacifiCorp.

Description: PacifiCorp submits a Facilities Agreement for RTU replacement at tanner Substation between PacifiCorp and City of Provo, Utah.

Filed Date: 09/28/2007.

Accession Number: 20071001-0088.

Comment Date: 5 p.m. Eastern Time on Friday, October 19, 2007.

Docket Numbers: ER07-1410-000.

Applicants: PB Financial Services, Inc.

Description: PB Financial Services, Inc submits a notice of cancellation of its First Revised Rate Schedule FERC 1.

Filed Date: 09/28/2007.

Accession Number: 20071003-0019.

Comment Date: 5 p.m. Eastern Time on Friday, October 19, 2007.

Docket Numbers: ER07-1411-000.

Applicants: Midwest Independent Transmission System Operator, Inc.

Description: Midwest Independent Transmission System Operator, Inc. submits its proposed revisions to the Midwest ISO's Open Access Transmission and Energy Markets Tariff.

Filed Date: 09/28/2007.

Accession Number: 20071003-0140.

Comment Date: 5 p.m. Eastern Time on Friday, October 19, 2007.

Docket Numbers: ER07-1412-000.

Applicants: ISO New England, Inc.

Description: ISO New England, Inc. and New England Power Pool submits Second Revised Sheet 9401, et al. to FERC Electric Tariff 3, Attachment D, effective 12/1/07.

Filed Date: 09/28/2007.

Accession Number: 20071003-0143.

Comment Date: 5 p.m. Eastern Time on Friday, October 19, 2007.

Docket Numbers: ER07-1413-000.

Applicants: Entergy Services, Inc.

Description: Entergy Arkansas Inc, et al. submit a Network Integration Transmission Service Agreement and Network Operating Agreement.

Filed Date: 09/28/2007.

Accession Number: 20071003-0139.

Comment Date: 5 p.m. Eastern Time on Friday, October 19, 2007.

Docket Numbers: ER07-1414-000.

Applicants: PPM Energy, Inc.

Description: PPM Energy Inc submits its Rate Schedule FERC 3, together with supporting testimony and cost-of-service schedules.

Filed Date: 09/28/2007.

Accession Number: 20071003-0138.

Comment Date: 5 p.m. Eastern Time on Friday, October 19, 2007.

Docket Numbers: ER07-1415-000.

Applicants: Xcel Energy Services, Inc.

Description: NSP Companies et al submit their revised tariff sheets with proposed revisions to the Midwest ISO's Open Access Transmission and Energy Market Tariff, FERC Electric Tariff, Third Revised Volume 1.

Filed Date: 09/28/2007.

Accession Number: 20071003-0137.

Comment Date: 5 p.m. Eastern Time on Friday, October 19, 2007.

Docket Numbers: ER07-1416-000.

Applicants: PJM Interconnection, LLC.

Description: PJM Interconnection, LLC submits revisions to the PJM Open Access Transmission Tariff.

Filed Date: 09/28/2007.

Accession Number: 20071003-0144.

Comment Date: 5 p.m. Eastern Time on Friday, October 19, 2007.

Docket Numbers: ER07-1417-000.

Applicants: Midwest Independent System Operator, Inc.

Description: Midwest Independent System Operator, Inc., et al. submit proposed revisions to the Congestion Management Process of their Joint Operating Agreement.

Filed Date: 09/28/2007.

Accession Number: 20071003-0145.

Comment Date: 5 p.m. Eastern Time on Friday, October 19, 2007.

Docket Numbers: ER07-1418-000.

Applicants: Duke Energy Carolinas, LLC.

Description: Duke Energy Carolinas, LLC submits a revised Network Integration Service Agreement with North Carolina Municipal Power Agency Number 1.

Filed Date: 09/28/2007.

Accession Number: 20071003-0141.

Comment Date: 5 p.m. Eastern Time on Friday, October 19, 2007.

Docket Numbers: ER07-1419-000.

Applicants: PacifiCorp.

Description: PacifiCorp submits a Notice of Cancellation of Service Agreement 67 with Black Hills Corp for Firm Point-to-Point Transmission Service.

Filed Date: 09/28/2007.

Accession Number: 20071001-0159.

Comment Date: 5 p.m. Eastern Time on Friday, October 19, 2007.

Docket Numbers: ER07-1420-000.

Applicants: York Haven Power Company.

Description: York Haven Holdings, Inc. submits a notice of cancellation of FERC Electric Tariff, Original Volume 1.

Filed Date: 09/28/2007.

Accession Number: 20071001-0160.

Comment Date: 5 p.m. Eastern Time on Friday, October 19, 2007.

Docket Numbers: ER07-1421-000; ER07-1422-000.

Applicants: PJM Interconnection, LLC.; Virginia Electric and Power Company.

Description: Virginia Electric & Power Co dba Dominion Virginia Power submits Attachment H-16B to the Open Access Transmission Tariff administered by PJM Interconnection, LLC.

Filed Date: 09/28/2007.

Accession Number: 20071001-0161.

Comment Date: 5 p.m. Eastern Time on Friday, October 19, 2007.

Docket Numbers: ER07-1423-000.

Applicants: PacifiCorp.

Description: PacifiCorp submits an unexecuted Firm Point-to-Point Transmission Service Agreement with Black Hills Power, Inc.

Filed Date: 09/28/2007.

Accession Number: 20071001-0162.

Comment Date: 5 p.m. Eastern Time on Friday, October 19, 2007.

Docket Numbers: ER08-1-000.

Applicants: Yuma Power Limited Liability Company.

Description: Yuma Power Limited Liability Company submits application for market-based rate authorization and request for waivers and blanket authorizations.

Filed Date: 10/01/2007.

Accession Number: 20071002-0088.

Comment Date: 5 p.m. Eastern Time on Monday, October 22, 2007.

Docket Numbers: ER08-2-000.

Applicants: Avista Corporation.

Description: Avista Corp and NorthWestern Corp submits a non-confirming Long-Term Service Agreements, FERC electric Rate Schedule 484 and FERC Electric Rate Schedule 248 under ER08-2.

Filed Date: 10/01/2007.

Accession Number: 20071003-0033.

Comment Date: 5 p.m. Eastern Time on Monday, October 22, 2007.

Docket Numbers: ER08-3-000.

Applicants: Southern Company Services, Inc.

Description: Alabama Power Co et al. submit information to update the Annual Charge Component.

Filed Date: 10/01/2007.

Accession Number: 20071003-0035.

Comment Date: 5 p.m. Eastern Time on Monday, October 22, 2007.

Docket Numbers: ER08-4-000.

Applicants: The American Electric Power Service Corp.

Description: American Electric Power Service Corp submits a revision to the Repair and Maintenance Agreement with Indiana Michigan Power Co.

Filed Date: 10/01/2007.

Accession Number: 20071003-0034.

Comment Date: 5 p.m. Eastern Time on Monday, October 22, 2007.

Docket Numbers: ER08-5-000.

Applicants: Ohio Valley Electric Corporation.

Description: Ohio Valley Electric Corporation et al submits an unexecuted Interconnection Agreement with the U.S. Department of Energy.

Filed Date: 10/01/2007.

Accession Number: 20071003-0031.

Comment Date: 5 p.m. Eastern Time on Monday, October 22, 2007.

Docket Numbers: ER08-6-000.

Applicants: Westar Energy, Inc.

Description: Kansas Gas and Electric Co. and Westar Energy, Inc. submit a Notice of Cancellation of an Electric Power Supply Agreement with City of Moran, Kansas.

Filed Date: 10/01/2007.

Accession Number: 20071003-0032.

Comment Date: 5 p.m. Eastern Time on Monday, October 22, 2007.

Docket Numbers: ER08-7-000.

Applicants: Westar Energy, Inc.

Description: Kansas Gas and Electric Co. and Westar Energy, Inc, submit a Notice of Cancellation of an Electric Power Supply Agreement with City of Arma, Kansas.

Filed Date: 10/01/2007.

Accession Number: 20071003-0030.

Comment Date: 5 p.m. Eastern Time on Monday, October 22, 2007.

Docket Numbers: ER08-8-000.

Applicants: New England Power Pool.

Description: New England Power Pool Participants Committee submits signature pages of the New England Power Pool Agreement, dated as of 9/1/71.

Filed Date: 10/01/2007.

Accession Number: 20071003-0026.

Comment Date: 5 p.m. Eastern Time on Monday, October 22, 2007.

Docket Numbers: ER08-9-000.

Applicants: California Independent System Operator Corporation.

Description: California Independent System Operator Corp. submits an Amendment 2 to the amended and restated Metered Subsystem Aggregator Agreement with Northern California Power Agency.

Filed Date: 10/01/2007.

Accession Number: 20071002-0217.

Comment Date: 5 p.m. Eastern Time on Monday, October 22, 2007.

Docket Numbers: ER08-10-000.

Applicants: Pepco Holdings, Inc.

Description: Potomac Electric Power Co., et al. submit their request for authorization to implement a 50 basis point return on equity adder in recognition of the PI Companies' participation in PJM Interconnection, LLC.

Filed Date: 10/01/2007.

Accession Number: 20071003-0027.

Comment Date: 5 p.m. Eastern Time on Monday, October 22, 2007.

Docket Numbers: ER08-11-000.

Applicants: The Connecticut Light and Power Company; The United Illuminating Company.

Description: The United Illuminating Co. and the Connecticut Light and Power Co. submit the Trumbull Engineering Design, Construction and Transmission Interconnection Agreement.

Filed Date: 10/02/2007.

Accession Number: 20071003-0036.

Comment Date: 5 p.m. Eastern Time on Tuesday, October 23, 2007.

Take notice that the Commission received the following electric securities filings:

Docket Numbers: ES07-67-000.

Applicants: National Grid USA.

Description: Form 523—Request for Permission to Issue Securities of National Grid USA.

Filed Date: 10/01/2007.

Accession Number: 20070928-5082.

Comment Date: 5 p.m. Eastern Time on Monday, October 22, 2007.

Docket Numbers: ES08-1-000.

Applicants: PPL Electric Utilities Corporation.

Description: PPL Electric Utilities Corp. submits an application for approval to issue promissory notes etc. through 12/31/09 as to not exceed $750 million.

Filed Date: 10/01/2007.

Accession Number: 20071003-0016.

Comment Date: 5 p.m. Eastern Time on Monday, October 22, 2007.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets. For assistance with any FERC Online service, please e-mail: FERCOnlineSupport@ferc.gov or call (866) 208-3676 (toll free). For TTY, call (202) 502-8659.

Nathaniel J. Davis, Sr.,
Acting Deputy Secretary.

[FR Doc. E7-19891 Filed 10-9-07; 8:45 am]

BILLING CODE 6717-01-P